DEPARTMENT OF HEALTH AND HUMAN SERVICES

Centers for Disease Control and Prevention

[60Day-22-22DT; Docket No. CDC-2022-0040]

Proposed Data Collection Submitted for Public Comment and Recommendations

AGENCY: Centers for Disease Control and Prevention (CDC), Department of Health and Human Services (HHS).

ACTION: Notice with comment period.

SUMMARY: The Centers for Disease Control and Prevention (CDC), located within the Department of Health and Human Services (HHS), as part of its continuing effort to reduce public burden and maximize the utility of government information, invites the general public and other federal agencies the opportunity to comment on a proposed information collection, as required by the Paperwork Reduction Act of 1995. This notice invites comment on a proposed information collection project titled Baseline Survey of National Education and Awareness Social Marketing Campaign: Employer Efforts to Support the Mental Health of Health Workers. This project is designed to conduct an electronic survey with healthcare workers and healthcare employers to establish a baseline to measure intended campaign outcomes.

DATES: CDC must receive written comments on or before May 31, 2022.

ADDRESSES: You may submit comments, identified by Docket No. CDC-2022-0040, by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Baseline Survey of National Education and Awareness Social Marketing Campaign: Employer Efforts to Support the Mental Health of Health Workers—New—National Institute for Occupational Safety and Health (NIOSH), Centers for Disease Control and Prevention (CDC).

Background and Brief Description

NIOSH is requesting approval of a new data collection for a period of one year under the project titled Baseline Survey of National Education and Awareness Social Marketing Campaign: Employer Efforts to Support the Mental Health of Health Workers. As part of the COVID-19 American Rescue Plan of 2021 and in response to a Congressional mandate, NIOSH is taking an active stance to address mental health concerns, to include substance use disorders, among the more than 20 million workers in the nation's healthcare sector. NIOSH, the federal agency tasked with conducting research to contribute to reductions in occupational illnesses, injuries, and hazards, plans to conduct a national social marketing campaign to promote awareness and education of employers and health workers about mental health. By conducting a national social marketing campaign, NIOSH intends to reach both health employers and health workers with information about organizational programs, services, policies, and practices to support worker mental health and the importance of taking action to support one's mental health. The immediate anticipated outcomes of the campaign include:

1. Increased awareness and knowledge of mental health risks among healthcare workers, by both workers themselves and by their employers, and

2. Increased awareness of evidence-based interventions, policies, practices, services, and other resources among healthcare workers, by both workers themselves and by their employers.

Additionally, NIOSH aims for the campaign to not only increase healthcare employers' intent to implement workplace mental health support, but to increase workers ability to identify and intent to utilize those support services. To begin to understand whether these outcomes have been achieved, at the conclusion of the campaign NIOSH must first establish baseline metrics for these outcomes prior to the campaign's launch. Hence the need for this requested data collection. Secondarily, this information may also be used in further campaign development.

NIOSH anticipates seeking 500 healthcare worker respondents and 500 healthcare employer respondents for a total of 1,000 total survey respondents. We estimate that the survey will take approximately 15 minutes to complete per for a total of 250 annual burden hours. Participation is voluntary, and there is no cost to respondents other than their time.

Estimated Annualized Burden Hours
Type of respondents | Form name | Number of respondents | Number of responses per respondent | Average burden per response (in hours) | Total burden (in hours)
Healthcare Employers | Survey | 500 | 1 | 15/60 | 125
Healthcare Employees | Survey | 500 | 1 | 15/60 | 125
Total |  |  |  |  | 250

Jeffrey M. Zirger,
Lead, Information Collection Review Office, Office of Scientific Integrity, Office of Science, Centers for Disease Control and Prevention.

[FR Doc. 2022-06915 Filed 3-31-22; 8:45 am]

BILLING CODE 4163-18-P